Executive Order 14350 of September 16, 2025

Further Extending the TikTok Enforcement Delay

By the authority vested in me as President by the Constitution and the laws of the United States of America, it is hereby ordered:

Section 1. Extension. (a) The enforcement delay specified in section 2(a) of Executive Order 14166 of January 20, 2025 (Application of Protecting Americans from Foreign Adversary Controlled Applications Act to TikTok), as extended by Executive Order 14258 of April 4, 2025 (Extending the TikTok Enforcement Delay), and Executive Order 14310 of June 19, 2025 (Further Extending the TikTok Enforcement Delay), is further extended until December 16, 2025. During this period, the Department of Justice shall take no action to enforce the Protecting Americans from Foreign Adversary Controlled Applications Act (the “Act”) (Public Law 118-50, Div. H) or impose any penalties against any entity for any noncompliance with the Act, including for distributing, maintaining, or updating (or enabling the distribution, maintenance, or updating of) any foreign adversary controlled application as defined in the Act. In light of this direction, even after the expiration of the above-specified period, the Department of Justice shall not take any action to enforce the Act or impose any penalties against any entity for any conduct that occurred during the above-specified period or any period prior to the issuance of this order, including the period of time from January 19, 2025, until the date of this order.

(b) The Attorney General shall take all appropriate action to issue written guidance to implement the provisions of subsection (a) of this section.

(c) The Attorney General shall further issue a letter to each provider stating that there has been no violation of the statute and that there is no liability for any conduct that occurred during the above-specified period, as well as for any conduct from the effective date of the Act until the date of this order.

(d) Because of the national security interests at stake and because section 2(d) of the Act vests authority for investigations and enforcement of the Act only in the Attorney General, attempted enforcement by the States or private parties represents an encroachment on the powers of the Executive. The Attorney General shall exercise all available authority to preserve and defend the Executive's exclusive authority to enforce the Act.

Sec. 2. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

(d) The costs for publication of this order shall be borne by the Department of Justice.

THE WHITE HOUSE,

September 16, 2025.

[FR Doc. 2025-18482

Filed 9-22-25; 11:15 am]

Billing code 4410-CW-P